DEPARTMENT OF HEALTH AND HUMAN SERVICES

National Institutes of Health

National Institute of Environmental Health Sciences; Amended Notice of Meeeting

Notice is hereby given of a change in the meeting of the National Institute of Environmental Health Sciences Special Emphasis Panel, June 13, 2001, 8:30 a.m. to June 15, 2001, 5 p.m. Hawthorne Suites, 300 Meredith Drive, Durham, NC, 27713 which was published in the Federal Register on May 15, 2001, FR 66: 268731.

The starting date and time of the National Institute of Environmental Health Sciences Special Emphasis Panel will change to June 12, 2001, at 8:30 p.m., from the previously advertised June 13, at 8:30 a.m. The meeting is closed to the public.

Dated: May 23, 2001.
LaVerne Y. Stringfield,
Director, Office of Federal Advisory Committee Policy.

[FR Doc. 01-13543 Filed 5-29-01; 8:45 am]

BILLING CODE 4140-01-M